DEPARTMENT OF STATE

[Public Notice: 10564]

Notice of Public Meeting of the International Telecommunication Advisory Committee and Preparations for Upcoming International Telecommunications Meetings

This notice announces a meeting of the Department of State's International Telecommunication Advisory Committee (ITAC). The ITAC will meet on October 17, 2018, at AT&T, 1120, 20th Street NW, Washington DC at 2:00 p.m. to review the results of recent multilateral meetings', update on preparations for the International Telecommunication Union (ITU) 2018 Plenipotentiary Conference (PP-18), and discuss preparations for other upcoming multilateral meetings at the ITU. The meeting will focus on the following topics:

1. ITU Council

2. CITEL Meetings

3. Preparations for the ITU PP-18

4. Regional PP-18 Preparatory Groups

5. Asia Pacific Economic Cooperation Telecommunications Working Group 58 (TEL 58)

6. Organization for Economic Cooperation and Development (OECD) Committee on Digital Economy Policy (CDEP)

7. G20 Digital Economy Task Force

8. G7 Innovation/ICT Track

PP-18 will take place in Dubai, United Arab Emirates, from October 29 to November 17, 2018. The Plenipotentiary Conference, which takes place every four years, is the highest policy-making body of the ITU. PP-18 is expected to determine the overall policy direction of the ITU; adopt the strategic and financial plans for the next four years; and elect the 48 members of Council, 12 members of the Radio Regulations Board, and five senior ITU elected officials.

The OECD is scoping possible principles to foster trust in and adoption of artificial intelligence. The Department of State would welcome any written comments on this work to the ITAC email address.

Attendance at the ITAC meeting is open to the public as seating capacity allows. The public will have an opportunity to provide comments at this meeting at the invitation of the chair. Persons wishing to request reasonable accommodation during the meeting should send their requests to ITAC@state.gov no later than October 11, 2018. Requests made after that time will be considered, but might not be able to be accommodated.

Further details on this ITAC meeting will be announced through the Department of State's email list, ITAC@lmlist.state.gov. Use of the ITAC list is limited to meeting announcements and confirmations, distribution of agendas and other relevant meeting documents. The Department welcomes any U.S. citizen or legal permanent resident to remain on or join the ITAC listserv by registering by email via ITAC@state.gov and providing his or her name, email address, telephone contact and the company, organization, or community that he or she is representing, if any. Please send all inquiries to ITAC@state.gov.

Adam W. Lusin,
Director, Multilateral Affairs, International Communications and Information Policy, U.S. Department of State.

[FR Doc. 2018-21170 Filed 9-27-18; 8:45 am]

BILLING CODE 4710-07-P